DEPARTMENT OF HEALTH AND HUMAN SERVICES

Administration for Children and Families

Office of Refugee Resettlement; Grant to the Department of Human Services, District of Columbia

AGENCY: Office of Refugee Resettlement, Administration for Children and Families, HHS.

ACTION: Grant Award Announcement.

SUMMARY: Notice is hereby given that an award is being made to the Department of Human Services, District of Columbia in the amount of $225,000 to provide funds to refugees in need of employment assistance due to the events of the September 11, 2001 attack on the Pentagon. The closure of Reagan National Airport and the rapid decline in the metropolitan hospitality industry caused substantial numbers of refugees to lose their jobs. Many of these refugees arrived in the United States some time ago and are no longer eligible for refugee cash assistance and refugee medical assistance. The District of Columbia, Department of Human Services, intends to provide funds for mental health services, transportation assistance, English as a Second Language, direct assistance and State administration costs.

After the appropriate reviews, it has been determined that the need for additional services is compelling. The period of this funding will extend through March 30, 2003.

FOR FURTHER INFORMATION CONTACT: Janet Bailey, Office of Refugee Resettlement, Administration for Children and Families, 370 L'Enfant Promenade, SW., Washington, DC 20447, telephone (202) 401-4647.

Dated: May 14, 2002.
Nguyen Van Hanh,
Director, Office of Refugee Resettlement.

[FR Doc. 02-21044 Filed 8-19-02; 8:45 am]

BILLING CODE 4184-01-M